DEPARTMENT OF ENERGY

Federal Energy Regulatory Commission

[Docket No. EL04-75-000, et al.]

Kansas City Power & Light Company, et al.; Electric Rate and Corporate Filings

February 6, 2004.

The following filings have been made with the Commission. The filings are listed in ascending order within each docket classification.

1. Kansas City Power & Light Company

[Docket No. EL04-75-000]

Take notice that on January 21, 2004, Kansas City Power & Light Company, submitted a filing concerning its plans for implementation of Order No. 2003.

Comment Date: February 17, 2004.

2. Big Rivers Electric Corporation

[Docket No. EL04-76-000]

Take notice that on January 20, 2004, Big Rivers Electric Corporation, submitted a filing concerning its plans for implementation of Order No. 2003.

Comment Date: February 13, 2004.

3. Southwest Transmission Cooperative, Inc.

[Docket No. EL04-77-000]

Take notice that on January 20, 2004, Southwest Transmission Cooperative, Inc., submitted a filing concerning its plans for implementation of Order No. 2003.

Comment Date: February 13, 2004.

4. Midwest ISO Transmission Owners

[Docket No. EL04-78-000]

Take notice that on January 20, 2004, Midwest ISO Transmission Owners submitted a filing concerning its plans for implementation of Order No. 2003.

Comment Date: February 13, 2004.

5. Midwest Stand-Alone Transmission Companies

[Docket No. EL04-79-000]

Take notice that on January 20, 2004, the Midwest Stand Alone Transmission Companies submitted a filing regarding their plan for implementation of Order No. 2003.

Comment Date: February 13, 2004.

6. Midwest Energy, Inc.

[Docket No. EL04-80-000]

Take notice that on January 22, 2004, Midwest Energy, Inc. submitted a filing regarding its plan for implementation of Order No. 2003.

Comment Date: February 17, 2004.

7. Midwest Energy, Inc.

[Docket No. ER96-2027-003]

Take notice that on February 5, 2004, Midwest Energy, Inc. (Midwest Energy), submitted a notification of a change in status with respect to its market-based rate tariff.

Comment Date: February 26, 2004.

8. ISO New England Inc.

[Docket No. ER01-316-010]

Take notice that on February 3, 2004, ISO New England Inc. filed its Index of Customers for the fourth quarter of 2003 for its Tariff for Transmission Dispatch and Power Administration Services in compliance with Order No. 614.

Comment Date: February 24, 2004.

9. Xcel Energy Services, Inc.

[Docket No. ER04-201-001]

Take notice that on January 20, 2004, Xcel Energy Services, Inc. (XES), on behalf of Public Service Company of Colorado (PSC), submitted for filing a Commission Order 614 complaint version of the Notice of Cancellation of a Master Power Purchase and Sale Agreement with the City of Glendale, effective January 27, 2000.

Comment Date: February 13, 2004.

10. Orion Power MidWest, L.P.

[Docket No. ER04-500-000]

Take notice that on January 30, 2004, Orion Power MidWest, L.P. (OPMW) tendered for filing an Agreement For Sharing Revenue From Reactive Supply and Voltage Control From Generation Sources Within The FirstEnergy Control Area between OPMW and FirstEnergy Solutions Corp. OPMW request an effective date of October 1, 2003.

Comment Date: February 20, 2004.

11. Virginia Electric and Power Company

[Docket No. ER04-525-000]

Take notice that on February 3, 2004, Virginia Electric and Power Company (Dominion Virginia Power) tendered for filing a Service Agreement for Network Integration Transmission Service (Retail) and Network Operating Agreement between Dominion Virginia Power and Pepco Energy Services, Inc., designated as Service Agreement Number 378, Virginia Electric and Power Company FERC Electric Tariff, Second Revised Volume No. 5.

Dominion Virginia Power requests a waiver of the Commission's regulations to permit an effective date of January 1, 2004.

Comment Date: February 24, 2004.

12. Black River Generation, LLC

[Docket No. ER04-526-000]

Take notice that on February 3, 2004, Black River Generation, LLC (Black River Generation) tendered for filing an application for authorization to sell energy, capacity, and ancillary services and to provide asset management services at market-based rates pursuant to section 205 of the Federal Power Act.

Comment Date: February 24, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-266 Filed 2-11-04; 8:45 am]

BILLING CODE 6717-01-P